ENVIRONMENTAL PROTECTION AGENCY

[FRL 9649-5; CERCLA-04-2012-3768; CERCLA-04-2012-3767; CERCLA-04-2012-3766; CERCLA-04-2012-3765]

Florida Petroleum Reprocessors Superfund Site; Davie, Broward County, FL; Notice of Settlements

AGENCY: Environmental Protection Agency.

ACTION: Notice of Settlements.

SUMMARY: Under the Comprehensive Environmental Response, Compensation and Liability Act (CERCLA), the United States Environmental Protection Agency has entered into four (4) settlements for past response costs concerning the Florida Petroleum Reprocessors Superfund Site located in Davie, Broward County, Florida.

DATES: The Agency will consider public comments on the settlements until April 20, 2012. The Agency will consider all comments received and may modify or withdraw its consent to the settlements if comments received disclose facts or considerations which indicate that the settlements are inappropriate, improper, or inadequate.

ADDRESSES: Copies of the settlement are available from Ms. Paula V. Painter. Submit your comments by Site name Florida Petroleum Reprocessors by one of the following methods:

• www.epa.gov/region4/superfund/programs/enforcement/enforcement.html.

• Email. Painter.Paula@epa.gov.

FOR FURTHER INFORMATION CONTACT: Paula V. Painter at 404/562-8887.

Dated: February 29, 2012.
Anita L. Davis,
Chief, Superfund Enforcement & Information Management, Branch Superfund Division.

[FR Doc. 2012-6794 Filed 3-20-12; 8:45 am]

BILLING CODE 6560-50-P